DEPARTMENT OF THE INTERIOR

[FWS-R4-ES-2020-N002; FVHC98220410150-XXX-FF04H00000]

Deepwater Horizon Oil Spill, Louisiana Trustee Implementation Group; Final Phase 2 Restoration Plan #1.2 and Environmental Assessment: Barataria Basin Ridge and Marsh Creation Project, Spanish Pass Increment and Lake Borgne Marsh Creation Project Increment One; and Finding of No Significant Impact

AGENCY: Department of the Interior.

ACTION: Notice of availability.

SUMMARY: In accordance with the Oil Pollution Act of 1990 (OPA), the National Environmental Policy Act of 1969 (NEPA), the Final Programmatic Damage Assessment Restoration Plan/Final Programmatic Environmental Impact Statement (PDARP/PEIS), and the Consent Decree, the Federal and State natural resource trustee agencies for the Louisiana Trustee Implementation Group (LA TIG) have prepared a Louisiana Trustee Implementation Group Final Restoration Plan/Environmental Assessment #1.2: Barataria Basin Ridge and Marsh Creation Project Spanish Pass Increment and Lake Borgne Marsh Creation Project Increment One (Phase 2 RP/EA #1.2), and Finding of No Significant Impact (FONSI). The Phase 2 RP/EA #1.2 approves construction activities for the restoration of wetlands, coastal, and nearshore habitats injured in the Louisiana Restoration Area as a result of the Deepwater Horizon (DWH) oil spill. The Phase 2 RP/EA #1.2 analyzes restoration project design alternatives for two projects which are components of larger marsh restoration strategies, and were approved for engineering and design (E&D) in a previous restoration plan. In the final Phase 2 RP/EA #1.2, the LA TIG selected and approved a design alternative for construction of each project, at a total construction cost of approximately $203,182,000. The purpose of this notice is to inform the public of the availability of the final Phase 2 RP/EA #1.2 and FONSI.

ADDRESSES: Obtaining Documents: You may download the final Phase 2 RP/EA #1.2 from either of the following websites:

• https://www.doi.gov/deepwaterhorizon

• https://www.gulfspillrestoration.noaa.gov/restoration-areas/louisiana

Alternatively, you may request a CD of the final Phase 2 RP/EA #1.2 (see FOR FURTHER INFORMATION CONTACT). A hard copy of the final Phase 2 RP/EA #1.2 is also available to view at 16 repositories located across the region. Locations are listed in the following table.

Library | Address | City | Zip
St. Tammany Parish Library | 310 W 21st Avenue | Covington | 70433
Terrebonne Parish Library | 151 Library Drive | Houma | 70360
New Orleans Public Library, Louisiana Division | 219 Loyola Avenue | New Orleans | 70112
East Baton Rouge Parish Library | 7711 Goodwood Boulevard | Baton Rouge | 70806
Jefferson Parish Library, East Bank Regional Library | 4747 W Napoleon Avenue | Metairie | 70001
Jefferson Parish Library, West Bank Regional Library | 2751 Manhattan Boulevard | Harvey | 70058
Plaquemines Parish Library | 8442 Highway 23 | Belle Chasse | 70037
St. Bernard Parish Library | 1125 E St. Bernard Highway | Chalmette | 70043
St. Martin Parish Library | 201 Porter Street | St. Martinville | 70582
Alex P. Allain Library | 206 Iberia Street | Franklin | 70538
Vermilion Parish Library | 405 E St. Victor Street | Abbeville | 70510
Martha Sowell Utley Memorial Library | 314 St. Mary Street | Thibodaux | 70301
South Lafourche Public Library | 16241 E Main Street | Cut Off | 70345
Calcasieu Parish Public Library Central Branch | 301 W Claude Street | Lake Charles | 70605
Iberia Parish Library | 445 E Main Street | New Iberia | 70560
Mark Shirley, LSU AgCenter | 1105 West Port Street | Abbeville | 70510

FOR FURTHER INFORMATION CONTACT: Nanciann Regalado, via email at nanciann_regalado@fws.gov, via telephone at 678-296-6805, or via the Federal Relay Service at 800-877-8339.

SUPPLEMENTARY INFORMATION:

Introduction

On April 20, 2010, the mobile offshore drilling unit Deepwater Horizon, which was being used to drill a well for BP Exploration and Production, Inc. (BP), in the Macondo prospect (Mississippi Canyon 252—MC252), experienced a significant explosion, fire, and subsequent sinking in the Gulf of Mexico, resulting in an unprecedented volume of oil and other discharges from the rig and from the wellhead on the seabed. The DWH oil spill is the largest offshore oil spill in U.S. history, discharging millions of barrels of oil over a period of 87 days. In addition, well over 1 million gallons of dispersants were applied to the waters of the spill area in an attempt to disperse the spilled oil. An undetermined amount of natural gas was also released into the environment as a result of the spill.

The Trustees conducted the natural resource damage assessment (NRDA) for the DWH oil spill under the Oil Pollution Act 1990 (OPA; 33 U.S.C. 2701 et seq.). Pursuant to OPA, Federal and State agencies act as trustees on behalf of the public to assess natural resource injuries and losses and to determine the actions required to compensate the public for those injuries and losses. The OPA further instructs the designated trustees to develop and implement a plan for the restoration, rehabilitation, replacement, or acquisition of the equivalent of the injured natural resources under their trusteeship to baseline (the resource quality and conditions that would exist if the spill had not occurred). This includes the loss of use and services provided by those resources from the time of injury until the completion of restoration.

The DWH Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

On April 4, 2016, the United States District Court for the Eastern District of Louisiana entered a Consent Decree resolving civil claims by the Trustees against BP arising from the DWH oil spill: United States v. BPXP et al., Civ. No. 10-4536, centralized in MDL 2179, In re: Oil Spill by the Oil Rig “Deepwater Horizon” in the Gulf of Mexico, on April 20, 2010 (E.D. La.) (http://www.justice.gov/enrd/deepwater-horizon). Pursuant to the Consent Decree, restoration projects in the Louisiana Restoration Area are chosen and managed by the LA TIG. The LA TIG is composed of the following Trustees: State of Louisiana Coastal Protection and Restoration Authority; Oil Spill Coordinator's Office; Departments of Environmental Quality; Wildlife and Fisheries; and Natural Resources; DOI; NOAA; EPA; and USDA.

Background

The Final PDARP/PEIS provides for TIGs to propose phasing restoration projects across multiple restoration plans. A TIG may propose conceptual projects to fund for an information-gathering and planning phase, such as E&D, in a restoration plan (phase 1). Approval of a Phase 1 restoration plan and projects within, allows the TIG to develop information needed to fully consider design alternatives in a later restoration plan (phase 2). In the final Phase 1 RP #1, the LA TIG selected six conceptual projects for E&D, using funds as provided for in the DWH Consent Decree. Two of those projects selected to undergo E&D were the Barataria Basin Ridge and Marsh Creation Project Spanish Pass Increment (Spanish Pass project) and the Lake Borgne Marsh Creation Project Increment One (Lake Borgne project). Upon development of E&D alternatives for the two projects, a phase 2 restoration plan was drafted and an OPA and NEPA analysis were conducted on the design alternatives. Notice of availability of the draft Phase 2 RP/EA #1.2 was published in the Federal Register on October 18, 2019 (84 FR 55976). Public comment was encouraged and accepted until November 20, 2019. The LA TIG hosted a public webinar on October 28, 2019 to facilitate public review and comment. The LA TIG considered the public comments received and finalized the Phase 2 RP/EA #1.2, selecting construction designs for implementation of both projects. A summary of the public comments received and the LA TIG's responses to those comments are presented in the final Phase 2 RP/EA #1.2.

Overview of the LA TIG Final Phase 2 RP/EA #1.2

The Phase 2 RP/EA #1.2 is being released in accordance with OPA NRDA regulations found in the Code of Federal Regulations (CFR) at 15 CFR part 990, NEPA and its implementing regulations found at 40 CFR parts 1500-1508, the Final PDARP/PEIS, and the Consent Decree. The Phase 2 RP/EA #1.2 provides OPA and NEPA analyses for a reasonable range of design alternatives for the Spanish Pass and Lake Borgne projects, and identifies the LA TIG's selected design alternatives, those which the LA TIG believes best meet the objectives of the Spanish Pass and Lake Borgne projects. In accordance with NEPA, as part of the final Phase 2 RP/EA #1.2, the Trustees issued a FONSI. The FONSI is available in Appendix F of the Phase 2 RP/EA #1.2.

The Spanish Pass project is a component of an overall large-scale restoration strategy for the Barataria Basin that would reestablish, through multiple increments, ridge and intertidal marsh habitats degraded due to sea level rise, land subsidence, diminished sediment supply, and storm events. The total construction cost for the Spanish Pass project is approximately $101,359,000 which will be funded from the Wetlands, Coastal, and Nearshore Habitats restoration type allocation provided for in the Consent Decree.

The Lake Borgne project is a component of an overall large-scale restoration strategy for the southwestern shoreline of Lake Borgne that would reestablish, through multiple increments, the bay rim and intertidal marsh habitat. The estimated total construction cost for this increment is $101,823,000 will be funded also from the Wetlands, Coastal, and Nearshore Habitats restoration type allocation. Additional restoration planning for the Louisiana Restoration Area will continue.

Administrative Record

The documents comprising the Administrative Record for the Phase 2 RP/EA #1.2 can be viewed electronically at https://www.doi.gov/deepwaterhorizon/adminrecord.

Authority

The authority for this action is the Oil Pollution Act of 1990 (33 U.S.C. 2701 et seq.), its implementing Natural Resource Damage Assessment regulations found at 15 CFR part 990, and the National Environmental Policy Act of 1969 (42 U.S.C. 4321 et seq.) and its implementing regulations found at 40 CFR parts 1500-1508.

Mary Josie Blanchard,
Director of Gulf of Mexico Restoration, Department of Interior.

[FR Doc. 2020-21750 Filed 9-30-20; 8:45 am]

BILLING CODE 4333-15-P